DEPARTMENT OF TRANSPORTATION

Federal Aviation Administration

14 CFR Part 39

[Docket No. FAA-2005-23143; Directorate Identifier 2005-NM-177-AD]

RIN 2120-AA64

Airworthiness Directives; Airbus Model A318-100 Series Airplanes, Model A319-100 Series Airplanes, Model A320-111 Airplanes, Model A320-200 Series Airplanes, and Model A321-100 Series Airplanes

AGENCY: Federal Aviation Administration (FAA), Department of Transportation (DOT).

ACTION: Notice of proposed rulemaking (NPRM).

SUMMARY: The FAA proposes to supersede an existing airworthiness directive (AD) that applies to certain Airbus Model A319, A320, and A321 series airplanes. The existing AD currently requires repetitive inspections to detect wear of the inboard flap trunnions, and to detect wear or de-bonding of the protective half-shells; corrective actions, if necessary; and terminating action. This proposed AD would remove the repetitive inspections to detect wear of the inboard flap trunnions and to detect wear or de-bonding of the protective half-shells; and corrective actions if necessary. This proposed AD would add repetitive detailed inspections of the inboard flap trunnions for any wear marks and of the sliding panels for any cracking at the long edges, and corrective actions if necessary. This proposed AD would also add airplanes to the applicability. This proposed AD results from reports of wear damage to the inboard flap trunnions after incorporation of the terminating modification. We are proposing this AD to detect and correct wear of the inboard flap trunnions, which could lead to loss of flap surface control and consequently result in the flap detaching from the airplane. A detached flap could result in damage to the tail of the airplane.

DATES: We must receive comments on this proposed AD by January 3, 2006.

ADDRESSES: Use one of the following addresses to submit comments on this proposed AD.

• DOT Docket Web site: Go to http://dms.dot.gov and follow the instructions for sending your comments electronically.

• Government-wide rulemaking Web site: Go to http://www.regulations.gov and follow the instructions for sending your comments electronically.

• Mail: Docket Management Facility; U.S. Department of Transportation, 400 Seventh Street SW., Nassif Building, room PL-401, Washington, DC 20590.

• Fax: (202) 493-2251.

• Hand Delivery: Room PL-401 on the plaza level of the Nassif Building, 400 Seventh Street, SW., Washington, DC, between 9 a.m. and 5 p.m., Monday through Friday, except Federal holidays.

Contact Airbus, 1 Rond Point Maurice Bellonte, 31707 Blagnac Cedex, France, for service information identified in this proposed AD.

FOR FURTHER INFORMATION CONTACT: Dan Rodina, Aerospace Engineer, International Branch, ANM-116, FAA, Transport Airplane Directorate, 1601 Lind Avenue, SW., Renton, Washington 98055-4056; telephone (425) 227-2125; fax (425) 227-1149.

SUPPLEMENTARY INFORMATION:

Comments Invited

We invite you to submit any relevant written data, views, or arguments regarding this proposed AD. Send your comments to an address listed in the ADDRESSES section. Include the docket number “Docket No. FAA-2005-23143; Directorate Identifier 2005-NM-177-AD” at the beginning of your comments. We specifically invite comments on the overall regulatory, economic, environmental, and energy aspects of the proposed AD. We will consider all comments received by the closing date and may amend the proposed AD in light of those comments.

We will post all comments we receive, without change, to http://dms.dot.gov, including any personal information you provide. We will also post a report summarizing each substantive verbal contact with FAA personnel concerning this proposed AD. Using the search function of that web site, anyone can find and read the comments in any of our dockets, including the name of the individual who sent the comment (or signed the comment on behalf of an association, business, labor union, etc.). You may review the DOT's complete Privacy Act Statement in the Federal Register published on April 11, 2000 (65 FR 19477-78), or you may visit http://dms.dot.gov.

Examining the Docket

You may examine the AD docket on the Internet at http://dms.dot.gov, or in person at the Docket Management Facility office between 9 a.m. and 5 p.m., Monday through Friday, except Federal holidays. The Docket Management Facility office (telephone (800) 647-5227) is located on the plaza level of the Nassif Building at the DOT street address stated in the ADDRESSES section. Comments will be available in the AD docket shortly after the Docket Management System receives them.

Discussion

On November 20, 2000, we issued AD 2000-24-02, amendment 39-12009 (65 FR 75603, December 4, 2000), for certain Airbus Model A319, A320, and A321 series airplanes. That AD requires repetitive inspections to detect wear of the inboard flap trunnions, and to detect wear or de-bonding of the protective half-shells; corrective actions, if necessary; and terminating action. That AD resulted from issuance of mandatory continuing airworthiness information by a foreign civil airworthiness authority. We issued that AD to prevent chafing and resultant wear damage on the inboard flap drive trunnions or on the protective half-shells, which could result in failure of the trunnion primary load path; this would adversely affect the fatigue life of the secondary load path and could lead to loss of the flap.

Actions Since Existing AD Was Issued

Since we issued AD 2000-24-02, the Direction Generale de l'Aviation Civile (DGAC), which is the airworthiness authority for France, has notified us that operators have reported finding wear damage to the inboard flap trunnions after incorporating the terminating modification of AD 2000-24-02. Wear is caused when the sliding panel hook moves out of the protected area of the trunnion during flap operation. Wear of the inboard flap trunnion associated with a drive failure at track 2 or associated with a hard jam at track 1 could lead to loss of flap surface control. A free moveable flap could result in the flap detaching from the airplane. A detached flap could result in damage to the tail of the airplane.

Relevant Service Information

Airbus has issued Service Bulletin A320-57-1133, dated July 28, 2005. The service bulletin describes procedures for doing repetitive detailed inspections of the inboard flap trunnions for any wear marks and of the sliding panels for any cracking at the long edges, doing any corrective actions if necessary, and reporting inspection results to the manufacturer. The corrective actions include the following:

• If the sliding panel is damaged, replacing the sliding panel with a new sliding panel at the next opportunity.

• If the trunnion is damaged, reworking the trunnion to a smooth contour and measuring the maximum depth of rework.

• If the maximum allowed damage limit of the trunnion has been exceeded, replacing the trunnion or flap before further flight.

Accomplishing the actions specified in the service information is intended to adequately address the unsafe condition. The DGAC mandated the service information and issued French airworthiness directive F-2005-139, dated August 3, 2005, to ensure the continued airworthiness of these airplanes in France.

FAA's Determination and Requirements of the Proposed AD

These airplane models are manufactured in France and are type certificated for operation in the United States under the provisions of section 21.29 of the Federal Aviation Regulations (14 CFR 21.29) and the applicable bilateral airworthiness agreement. Pursuant to this bilateral airworthiness agreement, the DGAC has kept the FAA informed of the situation described above. We have examined the DGAC's findings, evaluated all pertinent information, and determined that AD action is necessary for airplanes of this type design that are certificated for operation in the United States.

This proposed AD would supersede AD 2000-24-02 and would only continue to require accomplishing the modification (the terminating action of AD 2000-24-02). This proposed AD would also require repetitive detailed inspections of the inboard flap trunnions for any wear marks and of the sliding panels for any cracking at the long edges, and corrective actions if necessary.

Clarification of Applicability

French airworthiness directive F-2005-139 is applicable to Airbus Model A318, A319, A320, and A321 airplanes, all serial numbers that have received Airbus modification 26495 in production or Airbus Service Bulletin A320-27-1117 in service. In this NPRM, however, we have excluded reference to Model A318-100 series airplanes that have accomplished Airbus Service Bulletin A320-27-1117 in service from the applicability, since that service bulletin does not apply to those airplanes. Also, this NPRM applies to all Model A319-100 series airplanes, Model A320-111 airplanes, Model A320-200 series airplanes, and Model A321-100 series airplanes. For all of these airplanes, either Airbus modification 26495 was accomplished in production or Airbus Service Bulletin A320-27-1117 was accomplished in service (as required by AD 2000-24-02 or French airworthiness directive 1996-271-092(B) R3, dated August 11, 1999). Therefore, for Model A319-100 series airplanes, Model A320-111 airplanes, Model A320-200 series airplanes, and Model A321-100 series airplanes, it is not necessary to reference Airbus modification 26495 or Airbus Service Bulletin A320-27-1117 in the applicability of the NPRM.

Clarification of Compliance Times for Corrective Actions

Where Airbus Service Bulletin A320-57-1133 specifies replacing the sliding panel at the next opportunity, this proposed AD would require replacing it within 600 flight hours after the proposed inspection.

If the trunnion is found damaged during any inspection, the service bulletin does not specify a compliance time for reworking the trunnion and measuring the maximum rework depth. This proposed AD would require those corrective actions before further flight after the proposed inspection.

Where the service bulletin specifies contacting the manufacturer for a grace period assessment after replacing the trunnion or flap, this proposed AD would instead require contacting the FAA or DGAC for the grace period assessment.

Clarification of Inspection Terminology

“Visually examine” as specified in Airbus Service Bulletin A320-57-1133 is referred to as a “detailed inspection” in this proposed AD. We have included the definition for a detailed inspection in a note in the proposed AD.

Clarification of Alternative Method of Compliance (AMOC) Paragraph

We have revised this action to clarify the appropriate procedure for notifying the principal inspector before using any approved AMOC on any airplane to which the AMOC applies.

Change to Existing AD

This proposed AD would retain certain requirements of AD 2000-24-02. Since AD 2000-24-02 was issued, the AD format has been revised, and certain paragraphs have been rearranged. Also, the requirements in paragraphs (a) through (e) of AD 2000-24-02 have not been retained in this proposed AD. As a result, the requirement in paragraph (f) of AD 2000-24-02 corresponds to the requirement of paragraph (f) in this proposed AD.

Costs of Compliance

The following table provides the estimated costs for U.S. operators to comply with this proposed AD.

Estimated Costs
Action | Work hours | Average labor rate per hour | Parts | Cost per airplane | Number of U.S.- registered airplanes | Fleet cost
Terminating modification (required by AD 2000-24-02) | 14 | $65 | Provided by manufacturer | $910 | 719 | $654,290.
Detailed inspection (new proposed action) | 2 | 65 | None | $130, per inspection cycle | 719 | $93,470, per inspection cycle.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket. See the ADDRESSES section for a location to examine the regulatory evaluation.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by removing amendment 39-12009 (65 FR 75603, December 4, 2000) and adding the following new airworthiness directive (AD):

Airbus: Docket No. FAA-2005-23143; Directorate Identifier 2005-NM-177-AD.

Comments Due Date

(a) The FAA must receive comments on this AD action by January 3, 2006.

Affected ADs

(b) This AD supersedes AD 2000-24-02.

Applicability

(c) This AD applies to the airplanes identified in paragraphs (c)(1) and (c)(2) of this AD, certificated in any category.

(1) Airbus Model A318-111 and -112 airplanes on which Airbus Modification 26495 has been incorporated in production.

(2) All Airbus Model A319-111, -112, -113, -114, -115, -131, -132, and -133 airplanes; Model A320-111 airplanes; Model A320-211, -212, -214, -231, -232, and -233 airplanes; and Model A321-111, -112, and -131 airplanes.

Unsafe Condition

(d) This AD results from reports of wear damage to the inboard flap trunnions after incorporation of the terminating modification. We are issuing this AD to detect and correct wear of the inboard flap trunnions, which could lead to loss of flap surface control and consequently result in the flap detaching from the airplane. A detached flap could result in damage to the tail of the airplane.

Compliance

(e) You are responsible for having the actions required by this AD performed within the compliance times specified, unless the actions have already been done.

Restatement of Certain Requirements of AD 2000-24-02

Modification

(f) For Model A319-111, -112, -113, -114, -115, -131, -132, and -133 airplanes; Model A320-111 airplanes; Model A320-211, -212, -214, -231, -232, and -233 airplanes; and Model A321-111, -112, and -131 airplanes; except those on which Airbus Modification 26495 has been accomplished in production: Within 18 months after January 8, 2001 (the effective date of AD 2000-24-02), modify the sliding panel driving mechanism of the flap drive trunnions, in accordance with Airbus Service Bulletin A320-27-1117, Revision 02, dated January 18, 2000.

Note 1: Accomplishment of the modification required by paragraph (f) of this AD before January 8, 2001, in accordance with Airbus Service Bulletin A320-27-1117, dated July 31, 1997; or Revision 01, dated June 25, 1999, is acceptable for compliance with that paragraph.

Requirements of this AD

Detailed Inspections

(g) For all airplanes: At the latest of the applicable compliance times specified in paragraphs (g)(1), (g)(2), and (g)(3) of this AD, do a detailed inspection of the inboard flap trunnions for any wear marks and of the sliding panels for any cracking at the long edges, and do any corrective actions as applicable, by accomplishing all of the applicable actions specified in the Accomplishment Instructions of Airbus Service Bulletin A320-57-1133, dated July 28, 2005; except as provided by paragraph (h) of this AD. Any corrective actions must be done at the compliance times specified in Figures 5 and 6, as applicable, of the service bulletin; except as provided by paragraph (i) of this AD. Repeat the detailed inspections thereafter at intervals not to exceed 4,000 flight hours.

Note 2: For the purposes of this AD, a detailed inspection is: “An intensive examination of a specific item, installation, or assembly to detect damage, failure, or irregularity. Available lighting is normally supplemented with a direct source of good lighting at an intensity deemed appropriate. Inspection aids such as mirror, magnifying lenses, etc., may be necessary. Surface cleaning and elaborate procedures may be required.”

(1) Before accumulating 4,000 total flight hours on the inboard flap trunnion since new.

(2) Within 4,000 flight hours after accomplishing paragraph (f) of this AD.

(3) Within 600 flight hours after the effective date of this AD.

No Reporting Requirement

(h) Although Airbus Service Bulletin A320-57-1133, dated July 28, 2005, specifies to submit certain information to the manufacturer, this AD does not include that requirement.

Compliance Times

(i) Where Airbus Service Bulletin A320-57-1133, dated July 28, 2005, specifies replacing the sliding panel at the next opportunity, replace it within 600 flight hours after the inspection required by paragraph (g) of this AD. If the trunnion is found damaged during any inspection required by paragraph (g) of this AD, do the corrective actions specified in the service bulletin before further flight. Where the service bulletin specifies contacting the manufacturer for a grace period assessment after replacing the trunnion or flap, contact the FAA or Direction Générale de l′Aviation Civile (DGAC) for the grace period assessment.

Alternative Methods of Compliance (AMOCs)

(j)(1) The Manager, International Branch, ANM-116, Transport Airplane Directorate, FAA, has the authority to approve AMOCs for this AD, if requested in accordance with the procedures found in 14 CFR 39.19.

(2) Before using any AMOC approved in accordance with 14 CFR 39.19 on any airplane to which the AMOC applies, notify the appropriate principal inspector in the FAA Flight Standards Certificate Holding District Office.

Related Information

(k) French airworthiness directive F-2005-139, dated August 3, 2005, also addresses the subject of this AD.

Issued in Renton, Washington, on November 18, 2005.
Kalene C. Yanamura,
Acting Manager, Transport Airplane Directorate, Aircraft Certification Service.

[FR Doc. 05-23514 Filed 11-30-05; 8:45 am]

BILLING CODE 4910-13-P